COMMISSION ON CIVIL RIGHTS

Agenda and Notice of Public Meeting of the Maryland Advisory Committee

Notice is hereby given, pursuant to the provisions of the rules and regulations of the U.S. Commission on Civil Rights, that a conference call of the Maryland Advisory Committee will convene at 1 p.m. and adjourn at 3:30 p.m. on Tuesday, July 29, 2003. The purpose of the conference call is to plan current SAC projects, including release of a report entitled, City Services and the Justice System: Do Korean American Storeowners in Baltimore, Maryland Get Equal Treatment? a civil rights forum in Western Maryland, and input regarding meaningful and measurable SAC activity.

This conference call is available to the public through the following call-in number: 1-888-869-0374, access code number: 17878777, contact name is Edward Darden. Any interested member of the public may call this number and listen to the meeting. Callers can expect to incur charges for calls not initiated using the supplied call-in number or over wireless lines and the Commission will not refund any incurred charges. Callers will incur no charge for calls using the call-in number over land-line connections. Persons with hearing impairments may also follow the proceedings by first calling the Federal Relay Service at 1-800-977-8339 and providing the Service with the conference call number and contact name.

To ensure that the Commission secures an appropriate number of lines for the public, persons are asked to register by contacting Edward Darden of the Eastern Regional Office, (202) 376-7533, TDD (202) 376-8116, by 1 p.m. on Monday, July 28, 2003.

The meeting will be conducted pursuant to the provisions of the rules and regulations of the Commission.

Dated at Washington, DC, July 1, 2003.
Ivy L. Davis,
Chief, Regional Programs Coordination Unit.

[FR Doc. 03-17994 Filed 7-15-03; 8:45 am]

BILLING CODE 6335-01-P